DEPARTMENT OF AGRICULTURE

Forest Service

Deschutes Provincial Advisory Committee (DPAC)

AGENCY: Forest Service.

ACTION: Notice of meeting.

SUMMARY: The Deschutes Advisory Committee will meet on November 9, 2004, starting at 9 a.m. at the Jefferson County Firehall on the corner of Adam and “J” Street in Madras, Oregon. Agenda items will include approval of this year's Northwest Forest Plan Monitoring report, Understanding Landscape Processes in Central Oregon, Local Community Protection Plans, B and B Project Update, and a discussion on upcoming topics and meeting dates. All Deschutes Province Advisory Committee Meetings are open to the public and an open public forum is scheduled from 2:30 to 3 p.m.

FOR FURTHER INFORMATION CONTACT: Chris Mickle, Province Liaison, Deschutes NF, Crescent RD, P.O. Box 208, Crescent, OR 97754, phone (541) 433-3216.

Leslie A.C. Weldon,
Deschutes National Forest Supervisor.

[FR Doc. 04-24316 Filed 10-29-04; 8:45 am]

BILLING CODE 3410-11-P